DEPARTMENT OF EDUCATION

Accrediting Agencies Currently Undergoing Review for the Purpose of Recognition by the U.S. Secretary of Education

AGENCY: Accreditation Group, Office of Postsecondary Education, U.S. Department of Education.

ACTION: Call for written third-party comments.

SUMMARY: This notice provides information to members of the public on submitting written comments for accrediting agencies currently undergoing review for the purpose of recognition by the U.S. Secretary of Education.

FOR FURTHER INFORMATION CONTACT: Herman Bounds, Director, Accreditation Group, Office of Postsecondary Education, U.S. Department of Education, 400 Maryland Avenue SW, Fifth Floor, Washington, DC 20202, telephone: (202) 453-7615, or email: herman.bounds@ed.gov.

SUPPLEMENTARY INFORMATION: This request for written third-party comments concerning the performance of accrediting agencies under review by the Secretary of Education is required by 496(n)(1)(A) of the Higher Education Act (HEA) of 1965, as amended, and pertains to the winter 2026 meeting of the National Advisory Committee on Institutional Quality and Integrity (NACIQI). The meeting date and location have not been determined but will be announced in a later Federal Register notice. In addition, a later Federal Register notice will describe how to register to provide oral comments at the meeting. Note: Written comments about the specific agencies identified below will not be accepted or provided to NACIQI members if those comments are submitted after the deadline provided in this Federal Register notice, which is December 6, 2024. Written comments must be submitted to the mailbox identified below. Do not submit written comments directly to Department officials or to NACIQI members.

Agencies Under Review and Evaluation: The Department requests written comments from the public on the following accrediting agencies, which are currently undergoing review and evaluation by the Accreditation Group, and which will be reviewed at the winter 2026 NACIQI meeting.

The agencies are listed by the type of application each agency has submitted. Please note, each agency's current scope of recognition is indicated below. If any agency requested to expand its scope of recognition, both the current scope of recognition and the requested scope of recognition are identified below.

Applications for Renewal of Recognition

1. American Board of Funeral Service Education. Scope of Recognition: The accreditation of institutions and programs awarding diplomas, associate degrees, and bachelor's degrees in funeral service or mortuary science, including the accreditation of distance learning courses and programs offered by these programs and institutions. Geographic Area of Accrediting Activities: The United States.

2. Accrediting Commission of Career Schools and Colleges. Scope of Recognition: The accreditation of postsecondary, non degree-granting institutions and degree-granting institutions in the United States, including those granting associate, baccalaureate and master's degrees, that are predominantly organized to educate students for occupational, trade and technical careers, and including institutions that offer programs via distance education. Geographic Area of Accrediting Activities: The United States.

3. Association of Institutions of Jewish Studies. Scope of Recognition: The accreditation of postsecondary institutions of Jewish Studies within the United States exclusively offering educational programs leading to a certificate, associate degree, baccalaureate degree or their equivalent credential in Jewish Studies or Classical Torah Studies. Geographic Area of Accrediting Activities: The United States.

4. American Speech-Language-Hearing Association. Scope of Recognition: The accreditation and pre-accreditation (Accreditation Candidate) of education programs in audiology and speech-language pathology leading to the first professional or clinical degree at the master's or doctoral level, and the accreditation of these programs offered via distance education. Geographic Area of Accrediting Activities: The United States.

5. Commission on Massage Therapy Accreditation. Scope of Recognition: The accreditation of institutions and programs that award postsecondary certificates, postsecondary diplomas, academic associate degrees and occupational associate degrees, in the practice of massage therapy, bodywork, and aesthetics/esthetics and skin care, and programs that include distance education. Geographic Area of Accrediting Activities: The United States.

6. Council on Naturopathic Medical Education. Scope of Recognition: The accreditation and preaccreditation of graduate-level, four-year naturopathic medical education programs leading to the Doctor of Naturopathic Medicine (NMN) or Doctor of Naturopathy (ND), including those offered by distance education. Geographic Area of Accrediting Activities: The United States.

7. Montessori Accreditation Council for Teacher Education. Scope of Recognition: The accreditation of Montessori teacher education institutions and programs including those offered via distance education. Geographic Area of Accrediting Activities: The United States.

8. Midwifery Education Accreditation Council. Scope of Recognition: The accreditation and pre-accreditation of direct-entry midwifery educational institutions and programs conferring degrees and certificates, including the accreditation of such programs offered via distance learning. Geographic Area of Accrediting Activities: The United States.

9. National Accrediting Commission of Career Arts and Sciences. Scope of Recognition: The accreditation of postsecondary schools and departments of cosmetology arts and sciences and massage therapy, including those offered via distance education. Geographic Area of Accrediting Activities: The United States.

10. National League for Nursing, Commission for Nurse Education Accreditation. Scope of Recognition: The preaccreditation and accreditation of nursing education programs which offer a certification or diploma or degree at the practical/vocational, diploma, associate, baccalaureate, masters, and doctoral levels, including those offered via distance education. This recognition extends to the Appeals Panel. Geographic Area of Accrediting Activities:

The United States. Requested Scope of Recognition: The preaccreditation and accreditation of nursing education programs which offer a certification or diploma or degree at the practical/vocational, diploma, associate, baccalaureate, masters, post-graduate, and doctoral levels, including those offered via distance education. This recognition extends to the Appeals Panel. Geographic Area of Accrediting Activities: The United States.

Compliance Reports

1. Association of Advanced Rabbinical and Talmudic Schools. Scope of Recognition: The accreditation and preaccreditation (“Correspondent” and “Candidate”) of advanced rabbinical and Talmudic schools to include Associate, Baccalaureate, Masters, Doctorate, and First Rabbinic and First Talmudic degree programs. Geographic Area of Accrediting Activities: The United States. The Compliance report includes findings of noncompliance with the criteria in 34 Code of Federal Regulations (CFR) part 602 identified in the November 3, 2023, letter from the senior Department official following the July 15,2023, NACIQI meeting, available at: https://surveys.ope.ed.gov/erecognition/#/public-documents.

2. Academy of Nutrition and Dietetics, Accreditation Council for Education in Nutrition and Dietetics. Scope of Recognition: The accreditation and pre-accreditation of Didactic and Coordinated Programs in Nutrition and Dietetics at both the undergraduate and graduate level, postbaccalaureate Nutrition and Dietetics Internships, and Nutrition and Dietetics Technician Programs at the associate degree level and for its accreditation of such programs offered via distance education. Geographic Area of Accrediting Activities: The United States. The compliance report includes findings of noncompliance with the criteria in 34 CFR part 602 identified in the November 3, 2023, letter from the senior Department official following the July 15, 2023, NACIQI meeting, available at https://surveys.ope.ed.gov/erecognition/#/public-documents.

3. National Association of Schools of Art and Design, Commission on Accreditation. Scope of Recognition: The accreditation of freestanding institutions and units offering art/design and art/design-related programs (both degree- and non-degree-granting), including those offered via distance education. Geographic Area of Accrediting Activities: The United States. The compliance report includes findings of noncompliance with the criteria in 34 CFR part 602 identified in the November 3, 2023, letter from the senior Department official following the July 15, 2023, NACIQI meeting, available at https://surveys.ope.ed.gov/erecognition/#/public-documents.

4. Northwest Commission on Colleges and Universities. Scope of Recognition: The accreditation and pre-accreditation (“Candidacy status”) of institutions, including the accreditation of programs offered via correspondence education, and distance education within these institutions. This recognition also extends to the Executive Committee. Geographic Area of Accrediting Activities: The United States. The compliance report includes findings of noncompliance with the criteria in 34 CFR part 602 identified in the November 3, 2023, letter from the senior Department official following the July 15, 2023, NACIQI meeting, available at https://surveys.ope.ed.gov/erecognition/#/public-documents.

Submission of Written Comments Regarding a Specific Accrediting Agency Under Review

Written comments about the recognition of any of the accrediting agencies listed above must be received by December 6, 2024, in the ThirdPartyComments@ed.gov mailbox. Please include in the subject line “Written Comments: (agency name).” The electronic mail (email) must include the name(s), title, organization/affiliation, mailing address, email address, and telephone number of the person(s) making the comment. Comments should be submitted as a PDF, Microsoft Word document or in a medium compatible with Microsoft Word that is attached to an email or provided in the body of an email message. Comments about an agency that has submitted a compliance report scheduled for review by the Department must relate to the criteria for recognition cited in the senior Department Official's letter that requested the report, or in the Secretary's appeal decision, if any. Comments about an agency that has submitted a petition for initial recognition, renewal of recognition, or an expansion of scope must relate to the agency's compliance with the Criteria for the recognition of Accrediting Agencies or the Criteria for the recognition of state agencies, which are available at: https://www2.ed.gov/admins/finaid/accred/index.html.

Only written materials submitted by the deadline to the email address listed in this notice, and in accordance with these instructions, become part of the official record concerning agencies scheduled for review and are considered by the Department and NACIQI in their deliberations. Written comments about the specific agencies identified in this Federal Register notice that are submitted after the deadline will not be considered by the Department or provided to NACIQI for purposes of the current cycle review. However, comments may be provided orally at the winter 2026 NACIQI meeting, which has not yet been scheduled, but which will be announced in a future Federal Register notice.

Electronic Access to this Document: The official version of this document is the document published in the Federal Register. Free internet access to the official edition of the Federal Register and the Code of Federal Regulations is available via the Federal Digital System at: www.gpo.gov/fdsys. At this site, you can view this document, as well as all other documents of the Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c; 20 U.S.C. 1099b.

Nasser Paydar,
Assistant Secretary for the Office of Postsecondary Education.

[FR Doc. 2024-25785 Filed 11-5-24; 8:45 am]

BILLING CODE P